DEPARTMENT OF ENERGY

Federal Energy Regulatory Commission

Notice of Transfer of License and Soliciting Comments, Motions To Intervene, and Protests

January 24, 2001.

Take notice that the following hydroelectric application has been filed with the Commission and is available for public inspection:

a. Application Type: Transfer of License.

b. Project No.: 2543-047.

c. Date Filed: December 22, 2000.

d. Applicants: The Montana Power Company and The Montana Power, L.L.C.

e. Name of Project: Milltown.

f. Location: On the Clark Ford River in Missoula County, Montana. The project does not utilize federal or tribal lands.

g. Filed Pursuant to: Federal Power Act, 16 U.S.C. 791(a)-825(r).

h. Applicant Contact: Michael P. Manion, The Montana Power Company, 40 East Broadway, Butte, MT 59701, (406) 497-2456; Steven M. Kramer and Carla J. Urquhart, Milbank, Tweed, Hadley & McCloy LLP, 1825 I Street, NW, Suite 1100, Washington, DC 20006, (202) 835-7508.

i. FERC Contact: Regina Saizan, (202) 219-2673.

j. Deadline for filing comments and or motions: March 1, 2001.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

Please include the Project Number (2543-047) on any comments or motions filed.

k. Description of Transfer: Transfer of the license for the project is being sought in connection with The Montana Power Company's (Montana Power) conversion to a limited liability company, The Montana Power, L.L.C., as part of an internal corporate restructuring that will be undertaken prior to the sale of Montana Power's utility business to North Western Corporation (North Western). The latter transaction is the subject of a separate proceeding in which Montana Power and North Western have filed a joint application under Section 203 of the Federal Power Act seeking approval of the disposition of jurisdictional facilities in connection with the sale of Montana Power's utility business.

The transfer application was filed within five years of the expiration of the license for the project. A Commission Order issued June 16, 2000, extended the termination date of the license to December 31, 2006. In Hydroelectric Relicensing Regulations Under the Federal Power Act (54 FR 23756; FERC Stats. and Regs., Regs. Preambles 1986-1990 30854 at p. 31437), the Commission declined to forbid all license transfers during the last five years of an existing license, and instead indicated that it would scrutinize all such transfer requests to determine if the transfer's primary purpose was to give the transferee an advantage in relicensing (id. at p. 31438 n. 318).

l. Location of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-2547 Filed 1-29-01; 8:45 am]

BILLING CODE 6717-01-M